DEPARTMENT OF JUSTICE

Antitrust Division

Notice Pursuant to the National Cooperative Research and Production Act of 1993—fd.io Project, Inc.

Notice is hereby given that, on May 4, 2016, pursuant to section 6(a) of the National Cooperative Research and Production Act of 1993, 15 U.S.C. 4301 et seq. (“the Act”), fd.io Project, Inc. (“fd.io”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: Intel Corporation, Hillsboro, OR; Brocade Communications Systems, Inc., San Jose, CA; Inocybe Technologies Inc., Gatineau, Quebec City, CANADA; Huawei Technologies Co., Ltd., Bantian, Longgang District, Shenzhen, PEOPLE'S REPUBLIC OF CHINA; Cisco Systems, Inc., Milpitas, CA; PLUMgrid, Inc., Sunnyvale, CA; NXP Semiconductor Inc. (Freescale), Austin, TX; Mesosphere Inc., San Francisco, CA; Metaswitch Networks, San Francisco, CA; Cavium Networks, Inc., San Jose, CA; Ericsson, Kista, SWEDEN; Comcast, Philadelphia, PA; Red Hat, Inc., Raleigh, NC; and 6 WIND, Montigny-le-Bretonneux, FRANCE.

The general area of fd.io's planned activity are to: (a) Drive the evolution of IO services (IO, processing, and management agents for networking, storage, and other types of IO) through a neutral community delivering open source software that supports deployment models including cloud, NFV, container, bare metal networking, storage, and other types of IO, in order to create a high performance, modular, and extensible open source platform fostering innovation in IO services (“the Platform”); (b) host a collection of projects that form a cohesive code base for open community based development, enhanced component compatibility and interoperability, greater choice and flexibility for data plane developers, and an open environment for IO services development and technology adoption; (c) support and maintain the strategic framework of the Platform through the technologies made available by the organization to make the Platform a success; (d) support and maintain policies set by the Board of Directors of the Joint Venture; (e) promote such Platform worldwide; (f) create and maintain programs regarding the use of Joint Venture trademarks; and (g) undertake such other activities as may from time to time be appropriate to further the purposes and achieve the goals set forth above.

Patricia A. Brink,
Director of Civil Enforcement, Antitrust Division.

[FR Doc. 2016-13629 Filed 6-8-16; 8:45 am]

BILLING CODE P